DEPARTMENT OF LABOR

Employment and Training Administration

[TA-W-50,380]

Tristar Refractories, Inc., Cincinnati, OH; Notice of Termination of Investigation

Pursuant to Section 221 of the Trade Act of 1974, as amended, an investigation was initiated on January 3, 2003 in response to a worker petition filed by the United Steelworkers of America, District 1/Sub-District 3 on behalf of workers at Tristar Refractories, Inc., Cincinnati, Ohio. Workers at the subject firm produced isostatically pressed ceramics.

The Department of Labor issued negative determinations applicable to the petitioning group of workers on July 2, 2002 (TA-W-41,130). No new information or change in circumstances is evident which would result in a reversal of the Department's previous determination. Consequently, further investigation would serve no purpose, and the investigation has been terminated.

Signed at Washington, DC, this 31st day of January, 2003.
Linda G. Poole,
Certifying Officer, Division of Trade Adjustment Assistance.

[FR Doc. 03-4272 Filed 2-21-03; 8:45 am]

BILLING CODE 4510-30-P